DEPARTMENT OF TRANSPORTATION

Federal Aviation Administration

14 CFR Part 97

[Docket No. 30604; Amdt. No 3266]

Standard Instrument Approach Procedures, and Takeoff Minimums and Obstacle Departure Procedures; Miscellaneous Amendments

AGENCY: Federal Aviation Administration (FAA), DOT.

ACTION: Final rule.

SUMMARY: This Rule establishes, amends, suspends, or revokes STANDARD Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 2, 2008. The compliance date for each SIAP, associated Takeoff Minimums, and ODP is specified in the amendatory provisions.

The incorporation by reference of certain publications listed in the regulations is approved by the Director of the Federal Register as of May 2, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the Associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 18, 2008.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 8 May 2008

Smithville, TN, Smithville Muni, RNAV (GPS) RWY 6, Amdt 1

Smithville, TN, Smithville Muni, RNAV (GPS) RWY 24, Amdt 1

Smithville, TN, Smithville Muni, Takeoff Minimums and Obstacle DP, Orig

* * * Effective 5 June 2008

Mojave, CA, Mojave, Takeoff Minimums and Obstacle DP, Amdt 1

Rifle, CO, Garfield County Regional, Takeoff Minimums and Obstacle DP, Amdt 8

Walden, CO, Walden-Jackson County, RNAV (GPS)-A, Orig

Walden, CO, Walden-Jackson County, Takeoff Minimums and Obstacle DP, Orig

Washington, DC, Washington Dulles Intl, ILS OR LOC RWY 1R, ILS RWY 1R (CAT II); ILS RWY 1R (CAT III), Amdt 23A

Washington, DC, Washington Dulles Intl, ILS OR LOC RWY 19L, Amdt 13A

Washington, DC, Washington Dulles Intl, ILS OR LOC/DME RWY 1C, Orig-A

Washington, DC, Washington Dulles Intl, ILS OR LOC/DME RWY 19C, ILS RWY 19C (CAT II); ILS RWY 19C (CAT III) Amdt 24A

Washington, DC, Washington Dulles Intl, CONVERGING ILS RWY 12, Amdt 5A

Washington, DC, Washington Dulles Intl, CONVERGING ILS RWY 19C, Amdt 7A

Washington, DC, Washington Dulles Intl, RNAV (GPS) Y RWY 1C, Orig-A

Washington, DC, Washington Dulles Intl, RNAV (GPS) Y RWY 19C, Amdt 2A

Washington, DC, Washington Dulles Intl, RNAV (RNP) Z RWY 1C, Orig-B

Washington, DC, Washington Dulles Intl, RNAV (RNP) Z RWY 19C, Orig-A

Washington, DC, Washington Dulles Intl, Takeoff Minimums and Obstacle DP, Orig

St Petersburg-Clearwater, FL, St. Petersburg-Clearwater Intl, RNAV (GPS)-A, Amdt 1

St Petersburg-Clearwater, FL, St. Petersburg-Clearwater Intl, Takeoff Minimums and Obstacle DP, Amdt 1

Metter, GA, Metter Muni, RNAV (GPS) RWY 10, Orig

Metter, GA, Metter Muni, RNAV (GPS) RWY 28, Orig

Metter, GA, Metter Muni, NDB OR GPS RWY 10, Amdt 2A, CANCELLED

Metter, GA, Metter Muni, Takeoff Minimums and Obstacle DP, Orig

Reidsville, GA, Swinton Smith Fld at Reidsville Muni, RNAV (GPS) RWY 11, Orig

Reidsville, GA, Swinton Smith Fld at Reidsville Muni, NDB RWY 11, Amdt 7

Arco, ID, Arco-Butte County, Takeoff Minimums and Obstacle DP, 1

Driggs, ID, Driggs-Reed Memorial, Takeoff Minimums and Obstacle DP, Amdt 2

Pocatello, ID, Pocatello Regional, Takeoff Minimums and Obstacle DP, Amdt 6

Glasgow, KY, Glasgow Muni, RNAV (GPS) RWY 7, Amdt 1

Glasgow, KY, Glasgow Muni, RNAV (GPS) RWY 25, Amdt 1

Glasgow, KY, Glasgow Muni, VOR/DME RWY 7, Amdt 8

Easton, MD, Easton/Newnam Field, RNAV (GPS) RWY 15, Orig

Easton, MD, Easton/Newnam Field, RNAV (GPS) RWY 22, Orig

Easton, MD, Easton/Newnam Field, RNAV (GPS) RWY 33, Orig

Easton, MD, Easton/Newnam Field, NDB OR GPS RWY 22, Amdt 8A, CANCELLED

Bangor, ME, Bangor Intl, ILS OR LOC RWY 15, ILS RWY 15 (CAT II); ILS RWY 15 (CAT III), Amdt 6

Bangor, ME, Bangor Intl, ILS OR LOC RWY 33, Amdt 12

Bangor, ME, Bangor Intl, VOR-A, Amdt 3

Bangor, ME, Bangor Intl, VOR/DME RWY 15, Amdt 4

Bangor, ME, Bangor Intl, VOR/DME RWY 33, Amdt 7

Bangor, ME, Bangor Intl, RADAR-1, Amdt 4

Bangor, ME, Bangor Intl, RNAV (GPS) RWY 15, Orig

Bangor, ME, Bangor Intl, RNAV (GPS) RWY 33, Orig

Bangor, ME, Bangor Intl, GPS RWY 15, Orig-A, CANCELLED

Bangor, ME, Bangor Intl, GPS RWY 33, Orig-A, CANCELLED

Portland, ME, Portland Intl Jetport, Takeoff Minimums and Obstacle DP, Amdt 4

Minneapolis, MN, Flying Cloud, Takeoff Minimums and Obstacle DP, Amdt 4

St Paul, MN, St Paul Downtown Holman FLD, Takeoff Minimums and Obstacle DP, Amdt 7

Colstrip, MT, Colstrip, Takeoff Minimums and Obstacle DP, Amdt 2

Ocracoke, NC, Ocracoke Island, Takeoff Minimums and Obstacle DP, Orig

Devils Lake, ND, Devils Lake Rgnl, RNAV (GPS) RWY 3, Orig

Devils Lake, ND, Devils Lake Rgnl, VOR RWY 3, Orig

Devils Lake, ND, Devils Lake Rgnl, VOR RWY 21, Orig

Teterboro, NJ, Teterboro, RNAV (GPS) RWY 6, Amdt 1

Binghamton, NY, Greater Binghamton/Edwin A. Link Field, Takeoff Minimums and Obstacle DP, Orig

Cincinnati, OH, Cincinnati Muni Airport—Lunken Field, Takeoff Minimums and Obstacle DP, Amdt 12

Springfield, OH, Springfield-Backley Muni, Takeoff Minimums and Obstacle DP, Orig

Greenville, SC, Donaldson Center, ILS OR LOC RWY 5, Amdt 5

Pine Ridge, SD, Pine Ridge, RNAV (GPS) RWY 30, Orig

Pine Ridge, SD, Pine Ridge, GPS RWY 30, ORIG-B, CANCELLED

Alice, TX, Alice Intl, LOC/DME RWY 31, Orig

Alice, TX, Alice Intl, LOC RWY 31, Amdt 6, CANCELLED

Borger, TX, Hutchinson County, RNAV (GPS) RWY 17, Orig

Borger, TX, Hutchinson County, RNAV (GPS) RWY 35, Orig

Borger, TX, Hutchinson County, VOR RWY 17, Amdt 9

Borger, TX, Hutchinson County, VOR/DME RWY 35, Amdt 4

Borger, TX, Hutchinson County, Takeoff Minimums and Obstacle DP, Amdt 1

Decatur, TX, Decatur Muni, RNAV (GPS) RWY 17, Orig

Decatur, TX, Decatur Muni, RNAV (GPS) RWY 35, Orig

Decatur, TX, Decatur Muni, Takeoff Minimums and Obstacle DP, Amdt 2

La Grange, TX, Fayette Rgnl Air Center, RNAV (GPS) RWY 16, Amdt 1

La Grange, TX, Fayette Rgnl Air Center, RNAV (GPS) RWY 34, Amdt 1

La Grange, TX, Fayette Rgnl Air Center, Takeoff Minimums and Obstacle DP, Orig

Marfa, TX, Marfa Muni, Takeoff Minimums and Obstacle DP, Orig

Richfield, UT, Richfield Muni, Takeoff Minimums and Obstacle DP, Amdt 1

Louisa, VA, Louisa County/Freeman Field, RNAV (GPS) RWY 27, Orig

Louisa, VA, Louisa County/Freeman Field, NDB OR GPS RWY 27, Orig-B, CANCELLED

Louisa, VA, Louisa County/Freeman Field, Takeoff Minimums and Obstacle DP, Orig

Newport News, VA, Newport News/Williamsburg Intl, ILS OR LOC RWY 7, Amdt 32

Newport News, VA, Newport News/Williamsburg Intl, RNAV (GPS) RWY 7, Amdt 2

Newport News, VA, Newport News/Williamsburg Intl, RNAV (GPS) RWY 20, Amdt 1

West Point, VA, Middle Peninsula Rgnl, VOR-A, Amdt 4

West Point, VA, Middle Peninsula Rgnl, RNAV (GPS) RWY 10, Orig

West Point, VA, Middle Peninsula Rgnl, Takeoff Minimums and Obstacle DP, Orig

Bremerton, WA, Bremerton National, RNAV (GPS) RWY 1, Orig-A

Philippi, WV, Philippi/Barbour County Rgnl, RNAV (GPS) RWY 8, Orig

Philippi, WV, Philippi/Barbour County Rgnl, RNAV (GPS) RWY 26, Orig

Philippi, WV, Philippi/Barbour County Rgnl, Takeoff Minimums and Obstacle DP, Orig

On April 14, 2008 (73 FR 19998) the FAA published an Amendment in Docket No. 30600, Amdt No. 3262 to Part 97 of the Federal Aviation Regulations under sections 97.23 effective June 5, 2008 which are hereby rescinded:

Monticello, NY, Sullivan County Intl, VOR/DME OR GPS RWY 1, Amdt 3, CANCELLED

Monticello, NY, Sullivan County Intl, Takeoff Minimums and Obstacle DP, Amdt 2, CANCELLED

On April 16, 2008 (73 FR 20527) the FAA published an Amendment in Docket No. 30602, Amdt No. 3264 to Part 97 of the Federal Aviation Regulations under sections 97.27 effective June 5, 2008 which is hereby rescinded:

Burlington/Mount Vernon, WA, Skagit Rgnl, GPS RWY 28, Orig-A, CANCELLED

[FR Doc. E8-9288 Filed 5-1-08; 8:45 am]

BILLING CODE 4910-13-P